PATENT AND TRADEMARK OFFICE

Submission for OMB Review; Comment Request

The United States Patent and Trademark Office (USPTO) will submit to the Office of Management and Budget (OMB) for clearance the following proposal for collection of information under the provisions of the Paperwork Reduction Act (44 U.S.C. Chapter 35).

Agency: United States Patent and Trademark Office (USPTO).

Title: Initial Patent Applications.

Form Number(s): PTO/SB/01-01A, PTO/SB/02A-02B, PTO/SB/02LR, PTO/SB/03-03A, PTO/SB/04-07, PTO/SB/13PCT, PTO/SB/14, PTO/SB/16-19, PTO/SB/29-29A, PTO/SB/101-110, EFS-Web Original New Utility, Design, and Provisional Application Forms.

Agency Approval Number: 0651-0032.

Type of Request: Revision of a currently approved collection.

Burden: 10,677,624 hours annually.

Number of Respondents: 543,591 responses per year.

Avg. Hours Per Response: The USPTO estimates that it takes between 24 minutes to 30 hours to gather the information, prepare, and submit the various paper and electronic applications in this collection, depending on the situation and the amount of information that needs to be submitted. Since EFS-Web is still relatively new, the USPTO does not yet have a good indication of how much time is saved by filing applications or documents electronically via EFS-Web. Accordingly, the USPTO has estimated the same time to complete the electronically-filed applications as it does to complete those submitted in paper form. As experience with EFS-Web grows, the USPTO will reevaluate the time required for electronically-filed versus paper-filed applications and documents. The USPTO estimates that it takes between 30 minutes to 1 hour to gather the information, prepare, and submit the petitions in this collection.

Needs and Uses: This collection of information is required by 35 U.S.C. 131 and 37 CFR 1.16 through 1.84. An applicant must provide sufficient information to allow the USPTO to properly examine the application or petition to determine whether it meets the requirements outlined in the patent statutes and regulations. The various fee and application transmittal forms, the declarations, the cover sheets, and the petitions permit applicants to supply all of the information necessary to process the application and enables the USPTO to ensure that all of the information has been provided in order to process the application.

Affected Public: Individuals or households; business or other for-profit; not-for-profit institutions, farms, the Federal Government, and State, Local, or Tribal Governments.

Frequency: On occasion.

Respondent's Obligation: Required to obtain or retain benefits.

OMB Desk Officer: David Rostker, (202) 395-3897.

Copies of the above information collection proposal can be obtained by any of the following methods:

• E-mail: Susan.Fawcett@uspto.gov. Include “0651-0032 copy request” in the subject line of the message.

• Fax: 571-273-0112, marked to the attention of Susan Brown.

• Mail: Susan K. Brown, Records Officer, Office of the Chief Information Officer, Architecture, Engineering and Technical Services, Data Architecture and Services Division, U.S. Patent and Trademark Office, P.O. Box 1450, Alexandria, VA 22313-1450.

Written comments and recommendations for the proposed information collection should be sent on or before March 28, 2007 to David Rostker, OMB Desk Officer, Room 10202, New Executive Office Building, 725 17th Street NW., Washington, DC 20503.

Dated: February 20, 2007.
Susan K. Brown,
Records Officer, USPTO, Office of the Chief Information Officer, Architecture, Engineering and Technical Services, Data Architecture and Services Division.

[FR Doc. E7-3182 Filed 2-23-07; 8:45 am]

BILLING CODE 3510-16-P